DEPARTMENT OF COMMERCE

National Institute of Standards and Technology

[Docket No. 0909100442-0563-02]

Effectiveness of Federal Agency Participation in Standardization in Select Technology Sectors for National Science and Technology Council's Sub-Committee on Standardization

AGENCY: National Institute of Standards and Technology, Department of Commerce.

ACTION: Request for Information.

SUMMARY: The National Institute of Standards and Technology, on behalf of the National Science and Technology Council's Sub-Committee on Standards, invites interested parties to provide their perspectives on the effectiveness of Federal agencies' participation in the development and implementation of standards and conformity assessment activities and programs. This information will help the Sub-Committee on Standards develop case studies that Federal agencies can consider in their future engagement in standards development and conformity assessment, particularly for multi-disciplinary technologies, or for technologies involving engagement from multiple Federal agencies.

DATES: Comments are due on or before 11:59 p.m. on February 7, 2011.

ADDRESSES: Comments will be accepted by e-mail only. Comments should be sent to SOS_RFI@nist.gov with the subject line “Standardization feedback for Sub-Committee on Standards.”

FOR FURTHER INFORMATION CONTACT: Ajit Jillavenkatesa, 100 Bureau Drive, Stop 1060, Gaithersburg, MD 20899-1060, 301-975-8519, ajit.jilla@nist.gov.

SUPPLEMENTARY INFORMATION: On March 24, 2010, the U.S. Chief Technology Officer and Associate Director for Technology in the White House Office of Science and Technology Policy, Aneesh Chopra, announced the establishment of a Sub-Committee on Standards under the National Science and Technology Council's Committee of Technology. (http://www.whitehouse.gov/blog/2010/03/24/providing-leadership-standards-address-national-challenges). The Sub-Committee includes leaders of executive branch agencies and commissions that have an interest in, or are involved with, technical standards. It is co-chaired by Patrick Gallagher (Director, National Institute of Standards and Technology, U.S. Department of Commerce). Information about agencies participating in this Sub-Committee, and its charter is available at: http://www.standards.gov/standards_gov/nstcsubcommitteeonstandards.cfm. By examining the various methods that Federal agencies use to engage in standards-development activities in partnership with the private sector, the Sub-Committee on Standards intends to develop information on how Federal agencies may engage more effectively in the standardization system in a manner that is consistent with the National Technology Transfer and Advancement Act of 1995 ¹ and the Office of Management and Budget Circular A-119.² In support of this objective, the Sub-Committee is interested in perspectives on (1) the effectiveness of the methods Federal agencies have used to engage in standards-setting activities by identifying which methods have enhanced or limited the public-private standards-setting processes; (2) the effectiveness of Federal agencies coordination with the private sector; and (3) the adequacy and availability of Federal resources; and (4) other issues that arise and are considered during the standards setting process which impact the process, and the timeliness, adoption and use of the resulting standards.

¹ National Technology Transfer and Advancement Act of 1995, Public Law 104-113, 110 Stat. 775—784 (1996).

² OMB Circular A-119 Revised, Federal Participation in the Development and Use of Voluntary Consensus Standards and in Conformity Assessment Activities (rev. Feb. 10, 1998) ¶ 3, available at http://www.whitehouse.gov/omb/rewrite/circulars/a119/a119.html.

Request for Information

The objective of this request is to inform the development of case studies that will examine the effectiveness of Federal agencies' participation in standards-setting efforts led by the private sector. The case studies would provide agencies information on lessons learned from Federal agency engagement in standards development for technologies that are complex, multi-disciplinary, exhibit system-type characteristics, and involve multiple government agencies, and addressed specific national priorities. Issues impacting U.S. competitiveness such as the interplay of standards with intellectual property, competition, and innovation are also significant considerations in these technology areas. These case studies may inform decisions about Federal agencies' engagement in standardization for technologies with similar characteristics. The questions below are intended to help frame the issues and should not be construed as a limitation on comments that parties may submit. Comments containing references, studies, research, and other empirical data that are not widely published should include copies of the referenced materials. All comments will be made publicly available.

The Sub-Committee on Standards is specifically interested in comments that address the questions below as they relate to the following technologies:

1. Smart Grid.

2. Health Information Technology.

3. Cyber Security.

4. Emergency Communications Interoperability.

5. Radioactivity Detectors and Radiation Monitors (ANSI N42.3x and N42.4x).

6. Other technologies involving significant Federal agency participation in standards setting.

For the purposes of this notice, the term “standards” and the phrase “standards setting” is used in a generic manner to cover both standards and conformity assessment development. State and local governments, standards-setting organizations, industry, consumers, manufacturers, solution providers, and other stakeholders are invited to respond. Responses should identify the technologies involved as appropriate.

Standards-Setting Processes, Reasons for Participation and the Benefits of Standardization

Emerging technologies offer great potential for delivering new and improved products and services in the global economy. Standards can enable further innovation and enhance the value of these new technologies. Federal law and associated policy guidance has expressed a general preference for Federal agencies to rely on voluntary consensus standards, in lieu of government unique standards, through the National Technology Transfer and Advancement Act of 1995 and Office of Management and Budget Circular A-119, which encourage agency staff to participate in standards-development activities led by the private sector, as appropriate.

Recognizing that stakeholders participate in standards-setting activities for varying reasons, and in order to evaluate the effectiveness of Federal agencies' participation in standards-setting efforts led by the private sector, the Sub-Committee invites organizations to provide information on their participation, and their perceptions of Federal participation in standards-setting activities related to the case-study technologies listed above, as well as the current status of the standardization process for these technologies. The Sub-Committee is interested in better understanding: Who participates in standards-setting activities? What are the most important reasons for participation? What are the benefits of developing standards for this sector? How do the standards impact organizations and their competitiveness? How has standardization spurred innovation in the technology sector(s) that is the subject of your comment? What is the current phase of the standards development process for this technology? How has the process worked so far? When developing standards, how are the standards-setting processes managed and coordinated? Is there a strategic plan that identifies the standards needs and defines the standards development life cycle? Are there barriers to developing high level strategies for standard-setting activities?

Perspectives on Government's Approach to Standards Activities

The Sub-Committee would like to identify and assess the methods by which Federal agencies work with standards-setting organizations, industry, State and local governments, and consumers to develop standards. The Federal Government approaches standard setting in various ways. Sometimes staff members from Federal agencies participate directly as subject matter experts in standards-setting activities that are led by the private sector. At other times, agencies identify their standards needs and requirements, and then reach out to the private sector to develop the standards. Sometimes, agencies fund private standards-setting activities to develop standards needed by that agency. At other times, agencies take an active role in both identifying standards needs and leading the standards development process in collaboration with the private sector. In many technology sectors, multiple Federal agencies with differing roles and mandates participate in standards-development activities.

Responses to the following questions will help the Sub-Committee to better understand which methods of engagement by Federal agencies are most effective and why. What methods of engagement are used by Federal agencies to participate in private sector-led standards development? How transparent is each method? How effective is each method? How could the methods be improved? What other methods should the Federal agencies explore? What impact have Federal agencies had on standards activities? How well do Federal agencies coordinate their roles in standards activities in the sector of interest? When Federal agencies have been involved in standards setting efforts in a technology sector, how has the progress of standards setting efforts in this technology sector changed after Federal agencies became involved? Are Federal agencies generally receptive to input from other participants in standards-setting activities? Does receptiveness tend to depend on whether the Federal agency is a regulator or a customer? In those sectors where Federal agencies plays a significant role in standards activities, how valuable and timely is the work product associated with this effort?

Issues Considered During the Standards Setting Process

Various factors (e.g., technology, competition, innovation, intellectual property rights, foreign regulations, etc.) arise and are considered and addressed during standards development. These aspects play a role in the adoption and use of the standard. The Sub-Committee is interested in understanding the types of issues that have been considered, and how these have been addressed/are being addressed. Has Federal agency participation in standards-setting impacted the consideration and resolution of these issues, and the standards setting processes?

With respect to foreign regulations, the Subcommittee is interested in understanding how foreign technical regulations are considered and addressed during standards setting or conformity assessment activities. Are efforts made to determine whether there is potential for overlap or duplication with existing international standards? How are other appropriate international standards that may be of interest identified? Are efforts made to identify existing or planned regional or national standards that may be considered for use as the basis for foreign technical regulations, rather than the international standard being considered by the committee?

With respect to intellectual property, the Sub-Committee would like to understand the approaches you have experienced or found most appropriate for handling patents and/or other types of intellectual property rights that are necessary to implement a standard. How does the need for access to intellectual property rights by Federal agencies factor into the use or development of standards? To what extent, if any, has the development, adoption or use of a standard, by Federal agencies in this technology sector been affected by holders of intellectual property? How have such circumstances been addressed? Are there particular obstacles that either prevent intellectual property owners from obtaining reasonable returns or cause intellectual property owners to make IP available on terms resulting in unreasonable returns when their IP is included in the standard? What strategies have been effective in mitigating risks, if any, associated with hold-up or buyers' cartels?

Adequacy of Resources

The availability and commitment of financial resources, personnel, and industry expertise may impact the success of standards development. In some instances, changing priorities or changes in an organization's budget may impact the resources an agency commits to an ongoing project. The Sub-Committee would like to better understand the resources that both private sector organizations and Federal agencies commit to standards-setting activities, constraints on those resources, and how the level of resources affects the success of the effort. What resources are needed to successfully complete the efforts? Taking into account budget constraints and competing initiatives, have Federal agencies committed adequate resources? What resource constraints impact the successful completion of the standards efforts?

Process Review and Improvement Metrics

The success and limitations of standards-setting activities and the associated outcomes may be studied, understood and implemented for continuous process improvement. Such improvements can help ensure that Federal agencies participation in standards activities is cost-effective and will lead to optimal results. Responses to the questions that follow will help the Sub-Committee better understand what methods have facilitated or hindered Federal agencies participation in standardization, recognizing that some standards-setting activities in the case-study technologies may be not yet be completed. What lessons about standards development in complex technologies have been learned so far? How have these lessons learned been implemented? Have there been any impediments to implementing these lessons? How has this information been documented or disseminated, and implemented? What kinds of performance metrics are appropriate to measure the effectiveness of the standards-setting process? If any such performance metrics have been used, what are the results?

Dated: December 2, 2010.
Patrick Gallagher,
Director, National Institute of Standards and Technology, Co-Chair, National Science and Technology Council's Sub-Committee on Technology.

[FR Doc. 2010-30864 Filed 12-7-10; 8:45 am]

BILLING CODE 3510-13-P